DEPARTMENT OF LABOR

Mine Safety and Health Administration

30 CFR Parts 70, 71, 72, 75, and 90

RIN 1219-AB64

Lowering Miners' Exposure to Respirable Coal Mine Dust, Including Continuous Personal Dust Monitors

AGENCY: Mine Safety and Health Administration, Labor.

ACTION: Proposed rule; extension of comment period.

SUMMARY: In response to requests from interested parties, the Mine Safety and Health Administration (MSHA) is extending the comment period on the proposed rule addressing Lowering Miners' Exposure to Respirable Coal Mine Dust, Including Continuous Personal Dust Monitors. This extension gives commenters additional time to review and comment on the proposed rule.

DATES: The comment period for the proposed rule published on October 19, 2010 (75 FR 64412), extended January 14, 2011 (76 FR 2617) and May 4, 2011 (76 FR 25277), is further extended. All comments must be received or postmarked by midnight Eastern Daylight Saving Time on June 20, 2011.

ADDRESSES: Comments must be identified with “RIN 1219-AB64” and may be sent by any of the following methods:

(1) Federal e-Rulemaking Portal: http://www.regulations.gov. Follow the instructions for submitting comments.

(2) Facsimile: 202-693-9441. Include “RIN 1219-AB64” in the subject line of the message.

(3) Regular Mail: MSHA, Office of Standards, Regulations, and Variances, 1100 Wilson Boulevard, Room 2350, Arlington, Virginia 22209-3939.

(4) Mail or Hand Delivery: MSHA, Office of Standards, Regulations, and Variances, 1100 Wilson Boulevard, Room 2350, Arlington, Virginia. Sign in at the receptionist's desk on the 21st floor.

MSHA will post all comments without change, including any personal information provided. Access comments electronically on http://www.regulations.gov and on MSHA's Web site at http://www.msha.gov/currentcomments.asp. Review comments in person at the Office of Standards, Regulations, and Variances, 1100 Wilson Boulevard, Room 2350, Arlington, Virginia. Sign in at the receptionist's desk on the 21st floor.

MSHA maintains a list that enables subscribers to receive e-mail notification when the Agency publishes rulemaking documents in the Federal Register. To subscribe, go to http://www.msha.gov/subscriptions/subscribe.aspx.

FOR FURTHER INFORMATION CONTACT: Roslyn B. Fontaine, Acting Director, Office of Standards, Regulations and Variances, MSHA, at Fontaine.Roslyn@dol.gov (E-mail), (202) 693-9440 (Voice), or (202) 693-9441 (Fax).

SUPPLEMENTARY INFORMATION:

Extending of Comment Period

On October 19, 2010 (75 FR 64412), MSHA published a proposed rule, Lowering Miners' Exposure to Respirable Coal Mine Dust, Including Continuous Personal Dust Monitors, twice extending the comment period now set to close May 31, 2011. On May 19, 2011, MSHA posted historical information and data on respirable coal mine dust on its End Black Lung—ACT NOW! Single Source Web page. Although MSHA does not believe this information is necessary to comment on the proposed rule, MSHA is providing additional time for interested parties to submit comments. MSHA is extending the comment period from May 31, 2011 to June 20, 2011. All comments and supporting documentation must be received or postmarked by June 20, 2011.

Dated: May 24, 2011.
Joseph A. Main,
Assistant Secretary of Labor for Mine Safety and Health.

[FR Doc. 2011-13238 Filed 5-24-11; 4:15 pm]

BILLING CODE 4510-43-P